NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities will hold ten meetings of the Humanities Panel, a federal advisory committee, during December 2018. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: December 3, 2018

This meeting will discuss applications for Humanities Connections Planning Grants, submitted to the Division of Education Programs.

2. Date: December 3, 2018

This meeting will discuss applications for Humanities Connections Planning Grants, submitted to the Division of Education Programs.

3. Date: December 4, 2018

This meeting will discuss applications for Humanities Connections Planning Grants, submitted to the Division of Education Programs.

4. Date: December 5, 2018

This meeting will discuss applications for Humanities Connections Planning Grants, submitted to the Division of Education Programs.

5. Date: December 6, 2018

This meeting will discuss applications for Humanities Connections Planning Grants, submitted to the Division of Education Programs.

6. Date: December 6, 2018

This meeting will discuss applications for the Fellowship Programs at Independent Research Institutions grant program, submitted to the Division of Research Programs.

7. Date: December 10, 2018

This meeting will discuss applications for the Dialogues on the Experience of War grant program, submitted to the Division of Education Programs.

8. Date: December 11, 2018

This meeting will discuss applications for the Dialogues on the Experience of War grant program, submitted to the Division of Education Programs.

9. Date: December 12, 2018

This meeting will discuss applications for the Dialogues on the Experience of War grant program, submitted to the Division of Education Programs.

10. Date: December 13, 2018

This meeting will discuss applications for the Dialogues on the Experience of War grant program, submitted to the Division of Education Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: November 7, 2018.
Elizabeth Voyatzis,
Committee Management Officer, National Endowment for the Humanities.

[FR Doc. 2018-24748 Filed 11-13-18; 8:45 am]

BILLING CODE 7536-01-P